DEPARTMENT OF LABOR

Employment and Training Administration

[TA-W-58,141]

IBM Corporation Muskegon, MI; Notice of Termination of Investigation

Pursuant to section 221 of the Trade Act of 1974, as amended, an investigation was initiated on October 17, 2005 in response to a petition filed on behalf of workers of IBM Corporation working on-site at Dana Corporation, 2001 Sanford Street in Muskegon, Michigan.

The petitioning group of workers is covered by a current certification (TA-W-57,957C) issued on October 24, 2005. Consequently, further investigation in this case would serve no purpose, and the investigation has been terminated.

Signed at Washington, DC, this 28th day of October, 2005.
Linda G. Poole,
Certifying Officer, Division of Trade Adjustment Assistance.

[FR Doc. 05-22331 Filed 11-8-05; 8:45 am]

BILLING CODE 4510-30-P